DEPARTMENT OF THE INTERIOR

Fish and Wildlife Service

[Docket No. FWS-R3-ES-2019-0101; FXES11130300000-190-FF03E00000]

Endangered and Threatened Wildlife and Plants; Draft Recovery Plan for the Ozark Hellbender

AGENCY: Fish and Wildlife Service, Interior.

ACTION: Notice of availability and request for public comment.

SUMMARY: We, the U.S. Fish and Wildlife Service, announce the availability of the draft recovery plan for the Ozark hellbender, a salamander species. We request review and comment on this draft recovery plan from local, State, and Federal agencies, and the public.

DATES: We must receive comments by January 21, 2021.

ADDRESSES:

Document availability: The draft recovery plan, along with any comments and other materials that we receive, will be available for public inspection at http://www.regulations.gov in Docket No. FWS-R3-ES-2019-0101.

Submitting Comments: You may submit comments by one of the following methods:

• Internet: http://www.regulations.gov. Search for and submit comments on Docket No. FWS-R3-ES-2019-0101.

• U.S. mail or hand-delivery: Public Comments Processing, Attn: Docket No. FWS-R3-ES-2019-0101; U.S. Fish and Wildlife Service Headquarters, MS: JAO/1N; 5275 Leesburg Pike, Falls Church, VA 22041-3803.

For more information, see Availability of Public Comments under SUPPLEMENTARY INFORMATION.

FOR FURTHER INFORMATION CONTACT: Karen Herrington, by phone at 573-234-2132, via email at karen_herrington@fws.gov, or via the Federal Relay Service at 800-877-8339.

SUPPLEMENTARY INFORMATION: We, the U.S. Fish and Wildlife Service (Service), announce the availability of the draft recovery plan for the endangered Ozark hellbender (Cryptobranchus alleganiensis bishopi) for public review and comment. The Ozark hellbender is a large, strictly aquatic salamander found only in southern Missouri and northern Arkansas. The draft recovery plan includes objective, measurable criteria and management actions as may be necessary for removal of the species from the Federal List of Endangered and Threatened Wildlife. We request review and comment on this draft recovery plan from local, State, and Federal agencies, and the public.

Recovery Planning

Section 4(f) of the Endangered Species Act of 1973, as amended (Act; 16 U.S.C. 1531 et seq.), requires the development of recovery plans for listed species, unless such a plan would not promote the conservation of a particular species. Also pursuant to section 4(f) of the Act, a recovery plan must, to the maximum extent practicable, include (1) a description of site-specific management actions as may be necessary to achieve the plan's goals for the conservation and survival of the species; (2) objective, measurable criteria that, when met, would support a determination under section 4(a)(1) that the species should be removed from the List of Endangered and Threatened Species; and (3) estimates of the time and costs required to carry out those measures needed to achieve the plan's goal and to achieve intermediate steps toward that goal.

Species Background

The Ozark hellbender is endemic to the White River drainage in northern Arkansas and southern Missouri (Johnson 2000), historically occurring in portions of the Spring, White, Black, Eleven Point, and Current Rivers and some of their tributaries (Bryant Creek, the North Fork White River, and Jacks Fork) (LaClaire 1993). Currently, populations of Ozark hellbenders are known to occur in Bryant Creek, the North Fork White River, the Eleven Point River, and the Current River, with some individuals possibly still present in the main stem of the White River, Spring River, and Jacks Fork (Briggler 2013, pers. comm.; Irwin 2013, pers. comm.).

The primary reason for Ozark hellbender population declines remains unclear. However, several potential factors have been identified and include degraded water quality, habitat loss resulting from impoundments and sedimentation, disease, illegal and/or scientific collection, and potential increased predation from some native and non-native species of stocked fish (Service 2011). Population declines have necessitated the use of captive propagation efforts to ensure the long-term survival of the species until threats are better understood and abated.

Under the Act, the Service added the Ozark hellbender to the Federal List of Endangered and Threatened Wildlife as an endangered species on October 6, 2011 (76 FR 61956). This final rule took effect on November 7, 2011.

Recovery Criteria

The draft recovery criteria are summarized below. For the recovery strategy, management actions, and estimated time and costs associated with recovery, refer to the Draft Recovery Plan for the Ozark hellbender (see ADDRESSES for document availability).

The ultimate recovery goal is to remove the Ozark hellbender from the Federal List of Endangered and Threatened Wildlife (“delist”) by ensuring the long-term viability of the species in the wild. In the recovery plan, we define the following criteria for reclassification (“downlisting” from endangered to threatened) and delisting based on the best available information on the species.

Downlisting Criteria

Because each of the three extant Ozark hellbender populations is genetically unique, all three populations are necessary to maintain the evolutionary potential of the species. Given the small range of each population, the persistence of all three populations is also necessary to guard against extinction from catastrophic events such as extreme flooding, drought, and chemical spills. Therefore, to downlist the Ozark hellbender, the following criteria should be achieved for each of three Ozark hellbender populations (the North Fork White River, Eleven Point River, and Current River):

1. There is a positive population trend for a 15 year period.¹

¹ Because the Ozark hellbender is a long-lived species, population trends take a longer amount of time to be realized. Thus, a longer period of time is needed to monitor population trends.

2. There is evidence of successful recruitment to maintain a sustaining population, with recruitment defined as attainment of sexual maturity by young.

3. Habitat quantity and quality are sufficient to support all life stages.

4. Within each watershed the number and distribution of occupied habitat patches and abundance of individuals within these patches is such that (1) the population is resilient to stochastic and catastrophic events and (2) connectivity and gene flow is sufficient to maintain genetic diversity and provide for natural re-establishment if a patch is extirpated.

5. Causes of population declines have been identified, and it is clear what actions are needed to address these threats.

Delisting Criteria

To delist the Ozark hellbender, the following criteria should be achieved for each of three Ozark hellbender populations (the North Fork White River, Eleven Point River, and Current River):

1. Downlisting criteria have been met.

2. Threats and causes of decline have been reduced or eliminated such that delisting criterion 1 will continue to be met into the foreseeable future.

Availability of Public Comments

Before including your address, phone number, email address, or other personal identifying information in your comment, you should be aware that your entire comment—including your personal identifying information—may be made publicly available at any time. While you can ask us in your comment to withhold your personal identifying information from public review, we cannot guarantee that we will be able to do so.

Authority

The authority for this action is section 4(f) of the Endangered Species Act, 16 U.S.C. 1533(f).

Lori Nordstrom,
Assistant Regional Director, Ecological Services, Midwest Region.

[FR Doc. 2020-28172 Filed 12-21-20; 8:45 am]

BILLING CODE 4333-15-P